DEPARTMENT OF HEALTH AND HUMAN SERVICES

Centers for Disease Control and Prevention

Guide to Community Preventive Services (GCPS) Task Force

In accordance with section 10(a)(2) of the Federal Advisory Committee Act (Pub. L. 92-463), the Centers for Disease Control and Prevention (CDC) announce the following meeting:

Name: Task Force on Community Preventive Services.

Times and Dates: 8 a.m.-6 p.m., June 14, 2006. 9 a.m.-1:30 p.m., June 15, 2006.

Place: Centers for Disease Control and Prevention, Roybal Campus, Tom Harkin Global Communications Center, Room 232 (Auditorium B), 1600 Clifton Road, Atlanta, Georgia 30333, telephone (404) 639-3311.

Status: Open to the public, limited only by the space available.

Purpose: The mission of the Task Force is to develop and publish the Guide to Community Preventive Services, which is based on the best available scientific evidence and current expertise regarding essential public health and what works in the delivery of those services.

Matters To Be Discussed: Agenda items include: Seating of five new Task Force members, briefings on administrative information, violence prevention, adolescent sexual behavior, worksite health promotion and the assessment of health risks with feedback, communicating economic findings, adolescent health, and dissemination activities and projects in which the Community Guide is utilized.

Agenda items are subject to change as priorities dictate.

Persons interested in reserving a space for this meeting should call Detrice Sherman, MPH at (404) 498-0979 by close of business on June 9, 2006.

Contact Person for Additional Information: Randy Elder, PhD, Community Guide Branch, Coordinating Center for Health Information and Service, National Center for Health Marketing, Division of Health Communication and Marketing Strategy, 4770 Buford Highway, M/S E-69, Atlanta, GA 30333; (404) 498-0953.

Dated: May 26, 2006.
James D. Seligman,
Chief Information Officer, Centers for Disease Control and Prevention.

[FR Doc. E6-8703 Filed 6-5-06; 8:45 am]

BILLING CODE 4163-18-P